ELECTION ASSISTANCE COMMISSION

Sunshine Act Meetings

AGENCY: U.S. Election Assistance Commission.

ACTION: Notice of public meeting (amended meeting date).

SUMMARY: EAC is amending the original Sunshine Notice that published on February 6, 2015. Due to an inclement weather forecast, EAC postponed the public meeting that was originally scheduled for Wednesday, February 18, 2015. The public meeting has been rescheduled for Tuesday, February 24, 2015, 10:00 a.m.-1:00 p.m.; U.S. Election Assistance Commission; 1335 East West Highway, EAC Office; Silver Spring, MD, 20910. The EAC public meeting agenda items remain the same.

DATES: Tuesday, February 24, 2015, 10:00 a.m.-1:00 p.m. EST.

ADDRESSES: U.S. Election Assistance Commission, 1335 East West Highway (EAC Office), Silver Spring, MD 20910, (Metro Stop: Silver Spring on the Red Line).

FOR FURTHER INFORMATION CONTACT: Bryan Whitener, Telephone: (301) 563-3961.

SUPPLEMENTARY INFORMATION:

AGENDA ITEMS TO BE DISCUSSED:

• Selection of Chair and Vice-Chair

• Accreditation Decision for Pro V&V

• Briefing and Discussion of Voluntary Voting Systems Guidelines (VVSG 1.1)

• Briefing and Discussion of Program Manuals

• Discussion and Consideration of Roles and Responsibilities Document

Commissioners will meet to select a chair and vice-chair and to discuss the following items: Accreditation Decision for Pro V&V; Briefing and Discussion of Voluntary Voting Systems Guidelines (VVSG 1.1); Briefing and Discussion of Program Manuals; and Discussion and Consideration of Roles and Responsibilities Document. As stated in the original notice, members of the public who wish to speak at the meeting on proposed changes to the Voluntary Voting Systems Guidelines VVSG 1.1 were requested to send a request to participate to the EAC no later than 5:00 p.m. EDT on Thursday, February 12, 2015.

STATUS: This meeting will be open to the public.

Dated: February 18, 2015.
Bryan Whitener,
Director of Communications & Clearinghouse.

[FR Doc. 2015-03608 Filed 2-18-15; 4:15 pm]

BILLING CODE P